DEPARTMENT OF ENERGY

[OE Docket No. EA-164-C]

Application To Export Electric Energy; Constellation Energy Commodities Group, Inc.

AGENCY: Office of Electricity Delivery and Energy Reliability, DOE.

ACTION: Notice of application.

SUMMARY: Constellation Energy Commodities Group, Inc. (Constellation) applied to renew its authority to export electric energy from the United States to Canada for a period of five years pursuant to section 202(e) of the Federal Power Act.

DATES: Comments, protests, or requests to intervene must be submitted on or before September 8, 2009.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C.824a(e)).

On January 23, 1998, DOE issued Order No. EA-164 authorizing Constellation to transmit electric energy from the United States to Canada as a power marketer using international transmission facilities located at the United States border with Canada for a period of two years. DOE has twice renewed Constellation's authority to export for five-year terms. The most recent authorization in Order No. EA-164-B will expire on January 31, 2010. On July 27, 2009, Constellation filed an application with DOE to renew the export authority contained in Order No. EA-164-B for an additional five-year term.

Constellation does not own any electric transmission facilities nor does it hold a franchised service area. The electric energy which Constellation proposes to export to Canada would be surplus energy purchased from electric utilities, Federal power marketing agencies, and other entities within the United States, and exported using international transmission facilities that have previously been authorized by a Presidential permit issued pursuant to Executive Order 10485, as amended.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the Constellation Energy Commodities Group, Inc. application to export electric energy to Canada should be clearly marked with Docket No. EA-164-C. Additional copies are to be filed directly with Lael Campbell, Constellation Energy Commodities Group, Inc., 111 Market Place, Suite 500, Baltimore, Maryland 21202. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.hopkins@hq.doe.gov.

Issued in Washington, DC, on August 3, 2009.
Anthony J. Como,
Director, Permitting and Siting, Office of Electricity Delivery and Energy Reliability.

[FR Doc. E9-18944 Filed 8-6-09; 8:45 am]

BILLING CODE 6450-01-P